DEPARTMENT OF TRANSPORTATION

Office of the Secretary

[Order 2000-1-25; Docket OST-1999-6249]

Application of Atlantic Coast Jet, Inc. for Certificate Authority

AGENCY: Department of Transportation.

ACTION: Notice of Order to Show Cause.

SUMMARY: The Department of Transportation is directing all interested persons to show cause why it should not issue an order finding Atlantic Coast Jet, Inc., fit, willing, and able, and awarding it a certificate of public convenience and necessity to engage in interstate scheduled air transportation of persons, property, and mail.

DATES: Persons wishing to file objections should do so no later than February 11, 2000.

ADDRESSES: Objections and answers to objections should be filed in Docket OST-1999-6249 and addressed to Department of Transportation Dockets, U.S. Department of Transportation, 400 Seventh Street, SW., Rm. PL-401, Washington, DC 20590, and should be served upon the parties listed in Attachment A to the order.

FOR FURTHER INFORMATION CONTACT: Ms. Carol Woods, Air Carrier Fitness Division (X-56, Room 6401), U.S. Department of Transportation, 400 Seventh Street, SW., Washington, D.C. 20590, (202) 366-2340.

Dated: January 31, 2000.
Robert S. Goldner,
Acting Deputy Assistant Secretary for Aviation and International Affairs,

[FR Doc. 00-2408 Filed 2-2-00; 8:45 am]

BILLING CODE 4910-62-P